DEPARTMENT OF DEFENSE

Office of the Secretary

[Docket ID: DoD-2009-OS-0110]

Proposed Collection; Comment Request

AGENCY: Science, Mathematics, and Research for Transformation (SMART) Scholarship Program, OSD (DDR&E), DOD.

ACTION: Notice.

In compliance with Section 3506(c)(2)(A) of the Paperwork Reduction Act of 1995, the Office of the Director, Defense Research and Engineering (DDR&E) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 22, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Science Mathematics and Research for Transformation (SMART) Scholarship Program Office, ATTN: Marcus Pritchard, 1 University Circle, Herrmann Hall Rm. 061, Monterey, DC 93943, or call the Deputy Program Manager, Marcus Pritchard, SMART Program Office, at 831-656-2874.

Title; Associated Form; and OMB Number: SMART Information Management System (SIMS); Application Form Number TBD; OMB Control Number 0704-TBD.

Needs and Uses: The information collection requirement is necessary to track and maintain accurate records of SMART Program participants, as well as support day-to-day operations and official duties.

Affected Public: Individuals or Households, Federal Government, Not-for-Profit Institutions.

Individuals Who Complete the Application Form

Annual Burden Hours: ~24,000.

Number of Respondents: ~3000.

Responses per Respondent: 1.

Average Burden per Response: 8 hrs.

Frequency: Once annually.

Individuals Who Are Selected for an Award

Annual Burden Hours: ~1,500.

Number of Respondents: ~300.

Responses per Respondent: 5.

Average Burden per Response: 1 hrs.

Frequency: Periodic as needed.

Individuals Who Are Selected for an Award

Annual Burden Hours: ~5,000.

Number of Respondents: ~1,000.

Responses per Respondent: 5.

Average Burden per Response: 1 hrs.

Frequency: Periodic as needed.

SUPPLEMENTARY INFORMATION:

Summary of Information Collection

Respondents are SMART Program participants and their advisors, future employers, and mentors who provide contact, Program progress, and student status information for the purpose of monitoring student participants' progress and position in the SMART Program as part of their agreement as Program participants. All information is collected by direct entry during secure logon sessions and/or by electronic or paper forms collected by SMART Program staff performing official duties. All information sought and collected is requisite to the short- and long-term operations of the Program. All persons must expressly consent to providing the information before they are allowed to provide it.

Dated: May 31, 2009.
Patricia L. Toppings,
OSD Federal Register Liaison Officer, Department of Defense.

[FR Doc. E9-17645 Filed 7-23-09; 8:45 am]

BILLING CODE 5001-06-P